DEPARTMENT OF ENERGY

Federal Energy Regulatory Commission

[Project No. 2445-028]

Green Mountain Power Corporation; Notice of Waiver Period for

Water Quality Certification Application

On April 12, 2023, Green Mountain Power Corporation submitted to the Federal Energy Regulatory Commission (Commission) a copy of its application for a Clean Water Act section 401(a)(1) water quality certification filed with the Vermont Department of Environmental Conservation (Vermont DEC), in conjunction with the above captioned project. Pursuant to 40 CFR 121.6 and section 4.34(b)(5) of the Commission's regulations,¹ we hereby notify the Vermont DEC of the following:

¹ 18 CFR 4.34(b)(5).

Date of Receipt of the Certification Request: April 12, 2023.

Reasonable Period of Time To Act on the Certification Request: One year, April 12, 2024.

If Vermont DEC fails or refuses to act on the water quality certification request on or before the above date, then the agency certifying authority is deemed waived pursuant to section 401(a)(1) of the Clean Water Act, 33 U.S.C. 1341(a)(1).

Dated: April 21, 2023.
Debbie-Anne A. Reese,
Deputy Secretary.

[FR Doc. 2023-08920 Filed 4-26-23; 8:45 am]

BILLING CODE 6717-01-P